DEPARTMENT OF TRANSPORTATION

Maritime Administration

[Docket No: MARAD-2000-6999]

Requested Administrative Waiver of the Coastwise Trade Laws

AGENCY: Maritime Administration, Department of Transportation.

ACTION: Invitation for public comments on a requested administrative waiver of the Coastwise Trade Laws for the vessel Victory of Burnham.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with P.L. 105-383 and MARAD's regulations at 46 CFR 388 (65 FR 6905; February 11, 2000) that the issuance of the waiver will have an unduly adverse effect on a U.S.-vessel builder or a business that uses U.S.-flag vessels, a waiver will not be granted.

DATES: Submit comments on or before April 5, 2000.

ADDRESSES: Comments should refer to docket number MARAD-2000-6999. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Public Law 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR 388.

Vessel Proposed for Waiver of the U.S.-Build Requirement

(1) Name of vessel and owner for which waiver is requested: Victory of Burnham, Owner: Mr. Jay Scott.

(2) Size, capacity and tonnage of vessel: 44′ foot sailboat of 15 gross tons, 13 net tons, displacing 22,280 pounds measured by the United States Sailing Association. She will carry six passengers.

(3) Intended use for vessel, including geographic region of intended operation and trade. According to the applicant: “The intended use of this vessel is to provide sail racing and team building charters in Northeastern Florida, and Southeastern Georgia, specifically Amelia Island, Fl.”

(4) Date and place of construction and (if applicable) rebuilding. The sailboat was built in Penryn, Cornwall, United Kingdom in 1981.

(5) A statement on the impact this waiver will have on other commercial passenger vessel operators. According to the applicant: “I believe by granting this waiver it will have no impact on other charter boats in the area. The majority are fishing vessels and the few 6 passenger cruising/sightseeing vessels in the area do not offer racing or team building. Tourism has grown to such an extent on Amelia Island that there were not enough charter sailboats to keep up with the demand last year and some people had to be turned away.”

(6) A statement on the impact this waiver will have on U.S. shipyards. According to the applicant: “In reference to United States shipyards, the only impact would be positive, because of the following facts: I purchased Victory of Burnham in 1991 for $56,000. Since that time I have spent $45,000 on U.S. built spars, rigging, and sails, $21,000 at U.S. yards for rebuilding the hull, $2,000 for rebuilding the keel and $13,000 on U.S. made electronics.”

Additional information supplied by the applicant: “Victory of Burnham has spent 19 of her 20 years in the United States. She served the United States Navy at the Naval Academy, for many years training Midshipmen. I would like to continue her tradition of team-building.”

Dated: February 29, 2000.
By order of the Maritime Administrator.
Joel C. Richard,
Secretary, Maritime Administration.

[FR Doc. 00-5346 Filed 3-3-00; 8:45 am]

BILLING CODE 4910-81-P